DEPARTMENT OF THE INTERIOR

National Park Service

Notice of Inventory Completion for Native American Human Remains and Associated Funerary Objects in the Possession of the University of Denver Department of Anthropology and Museum of Anthropology, Denver, CO

AGENCY: National Park Service, Interior.

ACTION: Notice.

Notice is hereby given in accordance with provisions of the Native American Graves Protection and Repatriation Act (NAGPRA), 43 CFR 10.9, of the completion of an inventory of human remains and associated funerary objects in the possession of the University of Denver Department of Anthropology and Museum of Anthropology, Denver, CO.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by University of Denver Department of Anthropology and Museum of Anthropology professional staff and a contract physical anthropologist in consultation with representatives of the Arapahoe Tribe of the Wind River Reservation, Wyoming; Cheyenne-Arapaho Tribes of Oklahoma; Comanche Indian Tribe, Oklahoma; Fort Sill Apache Tribe of Oklahoma; Hopi Tribe of Arizona; Jicarilla Apache Tribe of the Jicarilla Apache Indian Reservation, New Mexico; Kiowa Indian Tribe of Oklahoma; Navajo Nation, Arizona, New Mexico and Utah; Northern Cheyenne Tribe of the Northern Cheyenne Indian Reservation, Montana; Pueblo of Acoma, New Mexico; Pueblo of Cochiti, New Mexico; Pueblo of Jemez, New Mexico; Pueblo of Isleta, New Mexico; Pueblo of Laguna, New Mexico; Pueblo of Nambe, New Mexico; Pueblo of Picuris, New Mexico; Pueblo of Pojoaque, New Mexico; Pueblo of San Felipe, New Mexico; Pueblo of San Juan, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Skull Valley Band of Goshute Indians of Utah; Southern Ute Indian Tribe of the Southern Ute Reservation, Colorado; Ute Indian Tribe of the Uintah and Ouray Reservation, Utah; Ute Mountain Tribe of the Ute Mountain Reservation, Colorado, New Mexico and Utah; and the Zuni Tribe of the Zuni Reservation, New Mexico.

In 1932, human remains representing one individual were recovered from a site near La Veta, Huerfano County, CO, by Dr. E.B. Renaud of the University of Denver Department of Anthropology, and his assistant, Charlie Steen. No known individuals were identified. No funerary objects are present.

Dr. Renaud was taken to the remains by Karl Gilbert of the U.S. Forest Service. Dr. Renaud collected the long bones of the skeleton and reported, but did not collect, numerous glass beads associated with the remains. At the U.S. Forest Service office in La Veta, CO, Dr. Renaud examined the skull of the remains and a series of associated funerary objects that had been collected by John Durant in the winter of 1931-32. These funerary objects included one Barrett flintlock gun dated 1848, three metal arrow points, one saddle buckle, five saddle rings, one piece of copper, one spoon, and one stone pipe. Dr. Renaud was given the skull, which he took along with the long bones to the University of Denver. Currently, the university is in possession of eight long bones. The skull has not been located.

The date on the gun previously associated with the remains demonstrates that this individual died in the mid to late 19th century. At that time, south central Colorado, including Huerfano County, was the territory of the Eastern Bands of the Ute. This geographic association is confirmed by the oral testimony given in consultation, and is supported by ethnographical and historical evidence. Dr. Renaud's notes include a 1932 interview with Mr. I. Blasquez, a resident of La Veta since 1863, who also confirmed that the Ute lived in the La Veta area in the mid-19th century.

Based on the above-mentioned information, officials of the University of Denver Department of Anthropology and Museum of Anthropology have determined that, pursuant to 43 CFR 10.2(d)(1), the human remains listed above represent the physical remains of one individual of Native American ancestry. Also, officials of the University of Denver Department of Anthropology and Museum of Anthropology have determined that, pursuant to 43 CFR 10.2(e), there is a relationship of shared group identity that can be reasonably traced between these Native American human remains and the Skull Valley Band of Goshute Indians of Utah; the Southern Ute Indian Tribe of the Southern Ute Reservation, Colorado; the Ute Indian Tribe of the Uintah and Ouray Reservation, Utah; and the Ute Mountain Tribe of the Ute Mountain Reservation, Colorado, New Mexico and Utah.

This notice has been sent to officials of the Arapahoe Tribe of the Wind River Reservation, Wyoming; Cheyenne-Arapaho Tribes of Oklahoma; Comanche Indian Tribe, Oklahoma; Fort Sill Apache Tribe of Oklahoma; Hopi Tribe of Arizona; Jicarilla Apache Tribe of the Jicarilla Apache Indian Reservation, New Mexico; Kiowa Indian Tribe of Oklahoma; Navajo Nation, Arizona, New Mexico and Utah; Northern Cheyenne Tribe of the Northern Cheyenne Indian Reservation, Montana; Pueblo of Acoma, New Mexico; Pueblo of Cochiti, New Mexico; Pueblo of Jemez, New Mexico; Pueblo of Isleta, New Mexico; Pueblo of Laguna, New Mexico; Pueblo of Nambe, New Mexico; Pueblo of Picuris, New Mexico; Pueblo of Pojoaque, New Mexico; Pueblo of San Felipe, New Mexico; Pueblo of San Juan, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Skull Valley Band of Goshute Indians of Utah; Southern Ute Indian Tribe of the Southern Ute Reservation, Colorado; Ute Indian Tribe of the Uintah and Ouray Reservation, Utah; Ute Mountain Tribe of the Ute Mountain Reservation, Colorado, New Mexico and Utah; and the Zuni Tribe of the Zuni Reservation, New Mexico. Representatives of any other Indian tribe that believes itself to be culturally affiliated with these human remains should contact Jan I. Bernstein, Collections Manager and NAGPRA Coordinator at the University of Denver Department of Anthropology and Museum of Anthropology, 2000 Asbury, Sturm Hall S-146, Denver, CO 80208-2406, email jbernste@du.edu, telephone (303) 871-2543, before December 6, 2000. Repatriation of the human remains to the Skull Valley Band of Goshute Indians of Utah; the Southern Ute Indian Tribe of the Southern Ute Reservation, Colorado; the Ute Indian Tribe of the Uintah and Ouray Reservation, Utah; and the Ute Mountain Tribe of the Ute Mountain Reservation, Colorado, New Mexico and Utah may begin after that date if no additional claimants come forward.

Dated: October 30, 2000.
John Robbins,
Assistant Director, Cultural Resources Stewardship and Partnerships.

[FR Doc. 00-28425 Filed 11-3-00; 8:45 am]

BILLING CODE 4310-70-F